DEPARTMENT OF ENERGY

Federal Energy Regulatory Commission

[Project Nos. 1957-58; 1979-064; 1999-074; 2476-034; 2113-257; 2161-038; 2180-044; 2239-044]

Wisconsin Public Service Corporation; Wisconsin Valley Improvement Company; Specialty Papers Acquisition, LLC; PCA Hydro, Inc.; Tomahawk Pulp and Power Company; Notice of Applications Accepted for Filing, Soliciting Comments, Protests and Motions To Intervene

Take notice that the following hydroelectric applications have been filed with the Commission and are available for public inspection:

a. Type of Proceeding: Extension of License Terms (Northern Basin).

b. Project Nos.: P-1957-058, P-1979-064, P-1999-074, P-2476-034, P-2113-257, P-2161-038, P-2180-044, and P-2239-044.

c. Date Filed: January 31, 2019.

d. Licensees: Wisconsin Public Service Corporation, Wisconsin Valley Improvement Company, Specialty Papers Acquisition, LLC, PCA Hydro, Inc., and Tomahawk Pulp and Power Company.

e. Names and Locations of the Projects: Otter Rapids (P-1957-058), Alexander (P-1979-064), Wausau (P-1999-074), Jersey (P-2476-034), Rhinelander (P-2161-038), Grandmother Falls (P-2180-044), and Kings Dam (P-2239-044) hydroelectric projects and the Wisconsin River Headwaters Project (P-2113-257), all located on the Wisconsin River, in Lincoln, Marathon, Oneida, and Vilas counties, Wisconsin and Gogebic County, Michigan.

f. Filed Pursuant to: Federal Power Act, 16 U.S.C. 791a-825r.

g. Licensees Contact Information: (P-1957-058, P-1979-064, P-1999-074 & P-2476-034) Mr. Jamie Nuthals, Principal Environmental Consultant, WEC Business Services LLC, 700 North Adams Street, Green Bay, WI 54301, (920) 433-1460, james.nuthals@wecenergygroup.com; (P-2113-257) Mr. Ben E. Niffenegger, Manager of Environmental Affairs, Wisconsin Valley Improvement Company, 2301 North Third Street, Wausau, WI 54403, (715) 848-2976, Ext. 304, ben@wvic.com; (P-2180-044) Ms. Kristy Neumann, Environmental Manager, Packaging Corporation of America, N9090 County Road E, Tomahawk, WI 54487, (715) 453-2131 Ext. 238, Kneumann@packagingcorp.com; (P-2161-038) Mr. Kevin Dean, 515 West Davenport Street, Rhinelander, WI 54501, (715) 369-4231, kevin.dean@ahlstrom-munksjo.com; (P-2239-044) Mr. Alfred Morganroth, Chief Executive Officer, Tomahawk Power and Pulp Company, N10099 Kings Road, Tomahawk, WI 54487, (310) 490-4101, lnmangus@frontier.com.

h. FERC Contact: Mr. Ashish Desai, (202) 502-8370, Ashish.Desai@ferc.gov.

i. Deadline for filing comments, motions to intervene and protests is 30 days from the issuance date of this notice by the Commission. The Commission strongly encourages electronic filing. Please file motions to intervene, protests, comments, and recommendations, using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number, for example, “P-1957-058”.

Note that you can file comments, motions to intervene, and protects in response to all of the projects identified in the notice together (i.e., one response for all projects) or you can respond to each project individually, or do a combination of both.

j. Description of Proceeding: On January 31, 2019, Wisconsin Public Service Corporation, Wisconsin Valley Improvement Company, Specialty Papers Acquisitions, LLC, PCA Hydro, Inc., and the Tomahawk Pulp and Power Company filed requests to extend the license terms for their eight respective projects located in the northern sub-basin of the Wisconsin River. The projects include: (1) The Otter Rapids (P-1957), Alexander (P-1979), Wausau (P-1999), and Jersey (P-2476) projects licensed to the Wisconsin Public Service Corporation; (2) the Wisconsin River Headwaters Project No. 2113 licensed to the Wisconsin Valley Improvement Company; (3) the Rhinelander Project No. 2161 licensed to Specialty Papers Acquisitions, LLC; (4) the Grandmother Falls Project No. 2180 licensed to PCA Hydro, Inc.; and (5) the Kings Dam Project No. 2239 licensed to the Tomahawk Pulp and Power Company.

Currently, the 30-year licenses for the Alexander, Rhinelander, and Grandmother Falls Projects expire, respectively, on February 28, 2025, July 31, 2033, and December 31, 2034. The 30-year licenses for the Wisconsin River Headwaters, Kings Dam, Wausau, and Jersey Projects expire on June 30, 2026. The 40-year license for the Otter Rapids Project expires on June 30, 2030. The licensees seek Commission approval to extend the license terms for the above eight projects so they all expire on June 30, 2035. The licensees say the extensions would assist with the comprehensive study and analysis of the projects' cumulative environmental impact and would reduce stakeholder burden by integrating the relicensing consultation process. Additionally, the licensees say that aligning the license expiration dates would eliminate redundancies during relicensing for all involved parties as the projects in the northern sub-basin have similar vegetation, land cover, hydrology, and resource management concerns.

The licensees' requests are part of a broader proposal to align the license expiration dates for 20 projects on the Wisconsin River into three groupings based on each project's location to facilitate comprehensive study and analysis and coordinate relicensing as discussed above. This public notice covers eight projects in the northern sub-basin of the Wisconsin River. The Commission is issuing two other public notices—one for 10 projects in the central sub-basin of the Wisconsin River that would align these expiration dates so they expire on June 30, 2038 and another public notice for two projects in the southern sub-basin of the Wisconsin River that would align the license expiration dates to expire on June 30, 2041.

k. This notice is available for review and reproduction at the Commission in the Public Reference Room, Room 2A, 888 First Street NE, Washington, DC 20426. The filing may also be viewed on the Commission's website at http://www.ferc.gov/docs-filing/elibrary.asp. Enter the Docket number (for example, P-1957-058) excluding the last three digits in the docket number field to access the notice. You may also register online at http://www.ferc.gov/docs-filing/esubscription.asp to be notified via email of new filings and issuances related to this or other pending projects. For assistance, call toll-free 1-866-208-3676 or email FERCOnlineSupport@ferc.gov. For TTY, call (202) 502-8659.

l. Individuals desiring to be included on the Commission's mailing list should so indicate by writing to the Secretary of the Commission.

m. Comments, Protests, or Motions to Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

n. Filing and Service of Responsive Documents: Any filing must (1) bear in all capital letters the title COMMENTS, PROTEST, or MOTION TO INTERVENE as applicable; (2) set forth in the heading the name of the applicant(s) and the project number(s) of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to the requests to extend the license terms. Agencies may obtain copies of the applications directly from the applicants. A copy of any protest or motion to intervene must be served upon each representative of the applicant specified in the particular application. If an intervener files comments or documents with the Commission relating to the merits of an issue that may affect the responsibilities of a particular resource agency, they must also serve a copy of the document on that resource agency. A copy of all other filings in reference to these applications must be accompanied by proof of service on all persons listed in the service list prepared by the Commission in this proceeding, in accordance with 18 CFR 4.34(b) and 385.2010.

Dated: March 28, 2019.
Nathaniel J. Davis, Sr.,
Deputy Secretary.

[FR Doc. 2019-06460 Filed 4-2-19; 8:45 am]

BILLING CODE 6717-01-P